DEPARTMENT OF COMMERCE

National Oceanic and Atmospheric Administration

RIN 0648-AX05

Fisheries of the Northeastern United States; Atlantic Mackerel, Squid, and Butterfish Fisheries; Amendment 11

AGENCY: National Marine Fisheries Service (NMFS), National Oceanic and Atmospheric Administration (NOAA), Commerce.

ACTION: Supplemental Notice of Intent (NOI) to prepare an environmental impact statement (EIS); request for comments.

SUMMARY: On December 19, 2005, the Mid-Atlantic Fishery Management Council (Council), in cooperation with NMFS, announced its intent to prepare a supplemental environmental impact statement (SEIS) for Amendment 11 to the Atlantic Mackerel, Squid, and Butterfish (MSB) Fishery Management Plan (FMP)(Amendment 11). Since then, the Council and NMFS have determined that the Amendment 11 document is an independent action and therefore will be handled as an EIS, rather than SEIS. The Council has chosen to consider management measures in this action in addition to limited access in the Atlantic mackerel (mackerel) fishery, including: The implementation of annual catch limits (ACLs) and accountability measures (AMs) for Atlantic mackerel and butterfish required under the Magnuson-Stevens Fishery Conservation and Management Reauthorization Act of 2006 (MSRA); an update of the description and identification of essential fish habitat (EFH) for all life stages of mackerel, Loligo squid (Loligo), Illex squid (Illex), and butterfish (including gear impacts on Loligo egg EFH); and possible limitations on at-sea processing of mackerel. For purposes of scoping, this supplemental NOI seeks comments on only the above listed new measures that may be included in Amendment 11. Additional scoping will take place via solicitation of public comment at Council meetings and related Council committee meetings as Amendment 11 is considered and developed.

DATES: Public comments on the supplemental NOI for Amendment 11 must be received on or before 5 p.m., local time, September 10, 2008.

ADDRESSES: Written comments on the supplementary notice of intent for Amendment 11 may be sent by any of the following methods:

• E-mail to the following address: MSBAmendment11@noaa.gov;

• Mail to Sustainable Fisheries Division, Northeast Regional Office, NMFS, One Blackburn Drive, Gloucester, MA 01930. Mark the outside of the envelope “Scoping Comments on Supplemental NOI for Amendment 11;” or

• Fax to 978-281-9135. Mark the fax “Scoping Comments on Supplemental NOI for Amendment 11.”

Copies of supporting documents used by the Council are available from: Daniel Furlong, Executive Director, Mid-Atlantic Fishery Management Council, Room 2115, Federal Building, 300 South New Street, Dover, DE 19904-6790, telephone 302-674-2331.

FOR FURTHER INFORMATION CONTACT: Daniel Furlong, Executive Director, Mid-Atlantic Fishery Management Council, Room 2115, Federal Building, 300 South New Street, Dover, DE 19904-6790, telephone 302-674-2331.

SUPPLEMENTARY INFORMATION:

Background

On March 4, 2005 (70 FR 10605), the Council published an NOI to prepare a SEIS to consider the impacts of alternatives for limiting access to the mackerel fishery. The Council subsequently conducted scoping meetings on the development of a limited access program, which the Council originally planned to include in Amendment 9 to the MSB FMP (Amendment 9). However, due to unforeseen delays in the development of Amendment 9, the Council notified the public on December 19, 2005 (70 FR 75114), that the mackerel limited access program would be considered in Amendment 11. The Council subsequently notified the public on February 27, 2007 (72 FR 8693), that it would begin the development of Amendment 11 and the associated SEIS simultaneously with the development of Amendment 10 to the MSB FMP.

Additional Issues Under Consideration

During the course of the development of Amendment 11, the Council has identified three additional issues that may be considered in this amendment, in addition to mackerel limited entry. The first issue is implementation of ACLs and accountability measures AMs for mackerel and butterfish. The MSRA requires that fishery management plans contain a mechanism for specifying ACLs such that overfishing does not occur in the fishery, including measures to ensure accountability (AMs). Examples of AMs include in-season closures or pay-back provisions in cases of overages. The second issue is an update of the description and identification of EFH for all life stages of mackerel, Loligo, Illex, and butterfish (including gear impacts on Loligo squid egg EFH). NMFS guidance requires that EFH assessments should be updated every 5 years. The MSB EFH assessment has not been generally updated since it was completed in 1999, though gear impact analyses were completed for Amendment 9 to the MSB FMP (73 FR 37382, July 1, 2008). Additionally, EFH for Loligo eggs was designated in Amendment 9, therefore, a gear impact analysis for Loligo egg EFH will also be included in Amendment 11. The third issue is possible limitations on at-sea processing of mackerel that may be considered to limit overcapitalization of the mackerel fishery; the Council may consider a cap on the amount of at-sea processing or a limitation on at-sea processor vessel size.

Request for Comments

The public will have the opportunity to comment on the measures and alternatives being considered by the Council for Amendment 11 through public meetings and public comment periods required by the National Environmental Policy Act, the MSRA, and the Administrative Procedure Act. To date, the location and/or timing of these meetings and comment periods has yet to be finalized, but appropriate notice of them will be published in the Federal Register.

Authority: 16 U.S.C. 1801 et seq.

Dated: August 6, 2008.
James P. Burgess,
Acting Director, Office of Sustainable Fisheries, National Marine Fisheries Service.

[FR Doc. E8-18489 Filed 8-8-08; 8:45 am]

BILLING CODE 3510-22-S